DEPARTMENT OF AGRICULTURE

Food Safety and Inspection Service

[Docket No. 01-024N]

National Advisory Committee on Microbiological Criteria for Foods

AGENCY: Food Safety and Inspection Service, USDA.

ACTION: Notice of meeting; request for comments.

SUMMARY: The National Advisory Committee on Microbiological Criteria for Foods (NACMCF) will meet September 17-20, 2001. The meeting is open to the public. The committee will discuss Salmonella performance standards in meat and poultry products; Escherichia coli O157:H7 in blade-tenderized, non-intact beef; review Codex Alimentarius Commission Draft Guidelines for the Validation of Food Hygiene Control Measures; introduce the evaluation of hot holding temperatures; and the scientific basis for establishing safety-based “use by” date labeling for refrigerated, ready-to-eat foods.

FSIS will finalize an agenda describing the specific charges to the Committee on or before the meeting date and post it to its internet web page.

DATES: Subcommittees will meet on Monday, September 17, 2001, beginning at 8:30 a.m., and again on September 18 and 19, 2001; the full Committee will meet in plenary session on September 19-20, 2001.

ADDRESSES: The meeting will be held at the Capital Hilton, 1001 16th & K Street, NW., Washington, DC 20005. Send an original and two copies of comments to the Food Safety and Inspection Service Docket Room: Docket #01-024N, Room 102 Cotton Annex Building, 300 12th Street, SW., Washington, DC 20250. Comments may also be sent by facsimile (202) 205-0381. The comments and the official transcript of the meeting, when it becomes available, will be kept in the FSIS Docket Room at the above address.

FOR FURTHER INFORMATION CONTACT: Persons interested in making a presentation, submitting technical papers, or providing comments should contact Ms. Karen Thomas (202) 690-6620, Fax (202) 690-6634, e-mail address: karen.thomas@dcqexs1.hqnet.usda.gov, or mailing address: Food Safety and Inspection Service, Department of Agriculture, Office of Public Health and Science, Aerospace Center, Room 333, 1400 Independence Avenue, SW., Washington, DC 20250-3700. Persons requiring a sign language interpreter or other special accommodations should notify Ms. Thomas, by September 3, 2001.

SUPPLEMENTARY INFORMATION:

Background

The NACMCF was established in April 1988, in response to a recommendation in a 1985 report of the National Academy of Sciences Committee on Food Protection, Subcommittee on Microbiological Criteria, “An Evaluation of the Role of Microbiological Criteria for Foods.” The Charter for the NACMCF is available for viewing on the FSIS internet web page at http://www.fsis.usda.gov/OA/programs/nacmcf_chart.htm.

The NACMCF provides scientific advice and recommendations to the Secretary of Agriculture and the Secretary of Health and Human Services on public health issues relative to the safety and wholesomeness of the U.S. food supply including development of microbiological criteria and review and evaluation of epidemiological and risk assessment data and methodologies for assessing microbiological hazards in foods. The Committee also provides advice to the Centers for Disease Control and Prevention and the Departments of Commerce and Defense. Dr. I. Kaye Wachsmuth, Deputy Administrator, Office of Public Health and Science, FSIS, is the Committee Chair, and Janice F. Oliver, Deputy Director, Center for Food Safety and Applied Nutrition, Food and Drug Administration, is the Co-Chair.

At the September 17-20, 2001, meeting announced in this document, the Committee will

• Discuss Salmonella performance standards in meat and poultry products;

• Discuss Escherichia coli O157:H7 in blade-tenderized, non-intact beef;

• Review Codex Alimentarius Commission Draft Guidelines for the Validation of Food Hygiene Control Measures;

• Introduce the evaluation of hot holding temperatures; and

• Introduce the scientific basis for establishing safety-based “use by” date labeling for refrigerated, ready-to-eat foods.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Thomas J. Billy,
Administrator.

[FR Doc. 01-21982 Filed 8-30-01; 8:45 am]

BILLING CODE 3410-DM-P